DEPARTMENT OF TRANSPORTATION

Applications of Baltia Airlines, Inc. for Certificate Authority

AGENCY: Department of Transportation.

ACTION: Notice of Order to Show Cause (Order 2008-12-12) Docket DOT-OST-2007-0007.

SUMMARY: The Department of Transportation is directing all interested persons to show cause why it should not issue an order finding Baltia Airlines, Inc., fit, willing, and able, and awarding it a certificate of public convenience and necessity to engage in foreign scheduled air transportation of persons, property and mail.

DATES: Persons wishing to file objections should do so no later than January 2, 2009.

ADDRESSES: Objections and answers to objections should be filed in Docket DOT-OST-2007-0007 and addressed to U.S. Department of Transportation, Docket Operations, (M-30, Room W12-140), 1200 New Jersey Avenue, SE., West Building Ground Floor, Washington, DC 20590, and should be served upon the parties listed in Attachment A to the order.

FOR FURTHER INFORMATION CONTACT: Damon D. Walker, Air Carrier Fitness Division (X-56, Room W86-465), U.S. Department of Transportation, 1200 New Jersey Avenue, SE., Washington, DC 20590, (202) 366-7785.

Michael W. Reynolds,
Acting Assistant Secretary for Aviation and International Affairs.

[FR Doc. E8-31113 Filed 12-30-08; 8:45 am]

BILLING CODE 4910-9X-P